DEPARTMENT OF TRANSPORTATION

Maritime Administration

[Docket No. MARAD-2007-26841]

Utilization of U.S. Vessels and Mariners in the Marine Transportation of Liquefied Natural Gas

AGENCY: Maritime Administration, Department of Transportation.

ACTION: Notice and Request for Comments.

SUMMARY: The Maritime Administration (MARAD) seeks public comment on the use of United States vessels and mariners in the transportation of Liquefied Natural Gas (LNG) through the nation's offshore deepwater port receiving facilities. Comments should focus on the development of programs to maximize the utilization and availability of U.S. vessels and qualified U.S. citizen officers and unlicensed crews serving the international LNG tanker fleet. Comments may also include issues related to the overall safe and secure operation of deepwater port facilities.

DATES: Comments are due by February 16, 2007.

ADDRESSES: You may submit comments [identified by DOT DMS Docket Number MARAD-2007-26841] by any of the following methods:

• Web Site: http://dms.dot.gov. Follow the instructions for submitting comments on the DOT electronic docket site.

• Mail: Docket Management Facility; U.S. Department of Transportation, 400 7th St., SW., Nassif Building, Room PL-401, Washington, DC 20590-0001.

• Hand Delivery: Room PL-401 on the plaza level of the Nassif Building, 400 7th St., SW., Washington, DC, between 9 a.m. and 5 p.m., Monday through Friday, except Federal Holidays.

Instructions: All submissions must include the agency name and docket number for this action. Note that all comments received will be posted without change to http://dms.dot.gov including any personal information provided. Please see the Privacy Act heading below.

Docket: For access to the docket to read background documents or comments received, go to http://dms.dot.gov at any time or to Room PL-401 on the plaza level of the Nassif Building, 400 7th St., SW., Washington, DC, between 9 a.m. and 5 p.m., Monday through Friday, except Federal Holidays.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: H. Keith Lesnick, Director, Office of Deepwater Port Licensing, Maritime Administration, 400 Seventh Street, SW., Washington, DC 20590; fax: (202) 366-5123; or e-mail Keith.Lesnick@dot.gov.

SUPPLEMENTARY INFORMATION: As the lead federal agency for the licensing of offshore LNG and oil deepwater port terminals, the Maritime Administration is charged with ensuring that each facility is constructed and operated in a safe and secure manner. While LNG importation has historically had an impeccable safety record, MARAD is continually seeking additional ways to ensure the safe and secure operations of deepwater port facilities to help preserve the nation's security, environmental resources, and energy supply, and to improve transportation efficiencies.

To promote the security of the United States, Congress recently amended the Deepwater Port Act through the Coast Guard and Maritime Transportation Act of 2006 (Pub. L. 109-241, (2006)) to direct the Secretary (and, by delegation, the Maritime Administrator) to develop and implement a program to promote the transportation of liquefied natural gas to the United States on United States flag vessels. The Act further directed the Secretary to give top priority to the processing of deepwater port licenses to LNG facilities that will be supplied with natural gas by United States flag vessels. Further, the Act directed that the nation of registry for, and the nationality or citizenship of, officers and crew serving on board vessels transporting natural gas to a deepwater port be considered when granting a license.

The enactment of the Coast Guard and Maritime Transportation Act of 2006 places a firm emphasis on the safe and secure transport of LNG to and from our nation's facilities. In keeping with Congressional directives, MARAD seeks public comment on efforts to expand and maximize utilization of U.S. vessels and U.S. crews on LNG vessels. In addition, MARAD seeks comments on the availability of qualified officers and crew as well as the advantages of using U.S. crews.

Authority: 49 CFR 1.66.

Dated: January 11, 2007.
By Order of the Maritime Administrator.
Daron T. Threet,
Secretary, Maritime Administration.

[FR Doc. E7-554 Filed 1-16-07; 8:45 am]

BILLING CODE 4910-81-P